DEPARTMENT OF ENERGY

Federal Energy Regulatory Commission

[Project No. 14115-001]

AJT Mining Properties, Inc.; Notice of Surrender of Preliminary Permit

Take notice that AJT Mining Properties, Inc., permittee for the proposed Yeldagalga Creek Hydroelectric Project, has requested that its preliminary permit be terminated. The permit was issued on October 21, 2011, and would have expired on October 1, 2014.¹ The project would have been located on the Yeldagalga Creek, near Haines, in the boroughs of Haines and Juneau, Alaska.

¹ 137 FERC ¶ 62,069.

The preliminary permit for Project No. 14115 will remain in effect until the close of business, January 10, 2013. But, if the Commission is closed on this day, then the permit remains in effect until the close of business on the next day in which the Commission is open. 18 CFR 385.2007(a)(2) (2010). New applications for this site may not be submitted until after the permit surrender is effective.

Dated: December 11, 2012.
Kimberly D. Bose,
Secretary.

[FR Doc. 2012-30391 Filed 12-17-12; 8:45 am]

BILLING CODE 6717-01-P